SECURITIES AND EXCHANGE COMMISSION

[File No. 500-1]

In the Matter of Enterologics, Inc., Midas Medici Group Holdings, Inc., and SEFE, Inc., Order of Suspension of Trading

June 17, 2015.

It appears to the Securities and Exchange Commission (“Commission”) that there is a lack of current and accurate information concerning the securities of Enterologics, Inc. (“ELGO ¹”) (CIK No. 1483731), a revoked Nevada corporation whose principal place of business is listed as St. Paul, Minnesota because it is delinquent in its periodic filings with the Commission, having not filed any periodic reports since it filed a Form 10-Q for the period ended September 30, 2013. As of June 10, 2015, ELGO's common shares were quoted on OTC Link (previously “Pink Sheets”) operated by OTC Markets Group Inc. (“OTC Link”). On November 18, 2014, the Commission's Division of Corporation Finance sent a delinquency letter to ELGO at the address shown in its then-most recent filing in the Commission's EDGAR system requesting compliance with its periodic filing requirements, which ELGO failed to receive because the letter was not deliverable as addressed. ELGO thus failed to maintain a valid address on file with the Commission as required by Commission rules (Rule 301 of Regulation S-T, 17 CFR 232.301 and Section 5.4 of EDGAR Filer Manual). To date, ELGO has failed to cure its delinquencies.

¹ The short form of the issuer's name is also its ticker symbol.

It appears to the Securities and Exchange Commission (“Commission”) that there is a lack of current and accurate information concerning the securities of Midas Medici Group Holdings, Inc. (“MMED”) (CIK No. 1392448), a void Delaware corporation whose principal place of business is listed as New York, New York because it is delinquent in its periodic filings with the Commission, having not filed any periodic reports since it filed a Form 10-Q for the period ended September 30, 2012. As of June 10, 2015, MMED's common stock was quoted on OTC Link. On June 6, 2014, the Commission's Division of Corporation Finance sent a delinquency letter to MMED at the address shown in its then-most recent filing in the Commission's EDGAR system requesting compliance with its periodic filing requirements, which MMED received on June 11, 2014. To date, MMED has failed to cure its delinquencies.

It appears to the Securities and Exchange Commission (“Commission”) that there is a lack of current and accurate information concerning the securities of SEFE, Inc. (“SEFE”) (CIK No. 1321573), a defaulted Nevada corporation whose principal place of business is listed as Phoenix, Arizona because it is delinquent in its periodic filings with the Commission, having not filed any periodic reports since it filed a Form 10-Q for the period ended September 30, 2012. As of June 10, 2015, SEFE's common stock was quoted on OTC Link. On September 16, 2014, the Commission's Division of Corporation Finance sent a delinquency letter to SEFE at the address shown in its then-most recent filing in the Commission's EDGAR system requesting compliance with its periodic filing requirements, which SEFE received on September 19, 2014. To date, SEFE has failed to cure its delinquencies.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on June 17, 2015, through 11:59 p.m. EDT on June 30, 2015.

By the Commission.
Jill M. Peterson,
Assistant Secretary.

[FR Doc. 2015-15229 Filed 6-17-15; 11:30 am]

BILLING CODE 8011-01-P